DEPARTMENT OF HEALTH AND HUMAN SERVICES

Centers for Disease Control and Prevention

Disease, Disability, and Injury Prevention and Control Special Emphasis Panel (SEP): Initial Review

The meeting announced below concerns Epidemiology, Prevention and Treatment of Influenza and Other Respiratory Infections in Ghana, Studies at the Animal-Human Interface of Influenza and Other Zoonotic Diseases in Vietnam, The Incidence of Community Associated Influenza and Other Respiratory Infections in the United States, and Epidemiology, Prevention and Treatment of Influenza and Other Respiratory Infections in Panama and Central America Region, Funding Opportunity Announcements (FOAs) IP12-001, IP12-002,IP12-003, and IP12-006, initial review.

Correction: The notice was published in the Federal Register on January 26, 2012, Volume 77, Number 17, Page 4047. The place should read as follows:

Place: Crowne Plaza Hotel Atlanta-Airport, 1325 Virginia Avenue, Atlanta, GA 30344, Telephone: (404) 768-6660.

Contact Person for More Information: Gregory Anderson, MPH, MS, Scientific Review Officer, CDC, 1600 Clifton Road, NE., Mailstop E60, Atlanta, Georgia 30333, Telephone: (404) 718-8833.

The Director, Management Analysis and Services Office, has been delegated the authority to sign Federal Register notices pertaining to announcements of meetings and other committee management activities, for both the Centers for Disease Control and Prevention and the Agency for Toxic Substances and Disease Registry.

Dated: March 6, 2012.
Elaine L. Baker,
Director, Management Analysis and Services Office, Centers for Disease Control and Prevention.

[FR Doc. 2012-6075 Filed 3-12-12; 8:45 am]

BILLING CODE 4163-18-P